DEPARTMENT OF THE INTERIOR

Bureau of Land Management

[NV-060-2800/1610]

Notice of Availability; Draft Environmental Impact Statement/Draft Resource Management Plan Amendment; Falcon to Gonder Project; Proposed Power Transmission Line Project in Lander, Elko, Eureka, and White Pine Counties, NV

AGENCY: Bureau of Land Management (BLM), Interior.

Cooperating Agencies: Nevada Division of Wildlife, Nevada State Historic Preservation Office.

ACTION: Notice of availability of the Draft Environmental Impact Statement/Draft Resource Management Plan Amendment (DEIS/DRMPA) for the Falcon to Gonder Project, Lander, Elko, Eureka, and White Pine Counties, Nevada.

SUMMARY: Pursuant to section 102(2)(c) of the National Environmental Policy Act of 1969 (NEPA), 40 Code of Federal Regulations 1500-1508 Council on Environmental Quality Regulations, 43 Code of Federal Regulations 2800, and 43 Code of Federal Regulations 1600, notice is hereby given of the availability of the Draft Environmental Impact Statement/Draft Resource Management Plan Amendments (DEIS/DRMPA), prepared by the Bureau of Land Management (BLM) to analyze a proposed Falcon to Gonder 345 kV transmission line project and associated RMP amendments. The DEIS/DRMPA considers the environmental effects of five transmission line alternatives, along with the No Action Alternative. The project involves the BLM Nevada State Office, as well as BLM's Battle Mountain, Elko, and Ely Field Offices and includes public and private lands in Elko, Eureka, Lander, and White Pine Counties, Nevada.

DATES: Written comments must be postmarked or otherwise delivered by 4:30 p.m. on August 23, 2001. Copies of the DEIS may be obtained at the Nevada State Office or the Battle Mountain, Elko, or Ely BLM Field Offices. Public meetings will be held in the following locations from 7:00 p.m. to 9:00 p.m. on the dates indicated:

June 19, 2001. Carlin City Hall Court Room, 101 South 8th Street, Carlin, NV.

June 20, 2001. Eureka Opera House, 31 South Main Street, Eureka, NV.

June 21, 2001. BLM Ely Field Office, 702 North Industrial Way, Ely, NV.

ADDRESSES: Written comments should be addressed to the Bureau of Land Management, Battle Mountain Field Office, ATTN: Mary Craggett, 50 Bastian Road, Battle Mountain, Nevada 89820. Comments, including names and street addresses of respondents, will be available for public review at the above address during regular business hours (7:30 a.m. to 4:30 p.m.), Monday through Friday, except holidays, and may be published in the Final EIS. Individual respondents may request confidentiality. If you wish to withhold your name or street address from public review or from disclosure under Freedom of Information Act, you must state this prominently at the beginning of your written comment. Such requests will be honored to the extent allowed by law. All submissions from organizations or businesses, and from individuals identifying themselves as representatives or officials of organizations or businesses, will be made available for public inspection in their entirety.

FOR FURTHER INFORMATION CONTACT: Mary Craggett (775) 635-4060.

SUPPLEMENTARY INFORMATION: On December 17, 1998, Sierra Pacific Power Company (SPPC) filed a right-of-way application with the BLM for the construction, operation, and maintenance of an approximately 165-185 mile long 345 kV electric transmission line that would connect the Falcon substation (north of Dunphy, Nevada) with the Gonder substation (north of Ely, Nevada). The project would improve electricity import and export capabilities to meet anticipated growth in SPPC's system.

The project, as currently proposed, identifies several route alternatives. The northern portion of any route would head south from the Falcon substation to Highway 50 near Eureka along one of several possible alignments. The southern portion of any route alternative would then head east along Highway 50 to follow an existing Sierra 230 kV line to the Gonder substation. The current alternatives are identified as the Crescent Valley (a), Crescent Valley (b), Pine Valley (a), Pine Valley (b), and Buck Mountain alternatives. The No Action alternative is also analyzed. The Pine Valley (a) route is BLM's preferred alternative.

As part of the proposed action, the BLM is also considering amendments to the RMPs for the Shoshone-Eureka Resource Area, Elko Resource Area, and Egan Resource Area to establish rights-of-way utility corridors along the preferred alignment. The Elko RMP also requires modifying the existing “low visibility” corridor along Interstate 80. Amendments to the Shoshone-Eureka RMP also include the deletion of a utility planning corridor that runs parallel to State Highway 305.

Robert V. Abbey,
State Director, Nevada, Bureau of Land Management.

[FR Doc. 01-12963 Filed 5-22-01; 8:45 am]

BILLING CODE 4310-HC-P